POSTAL SERVICE

Product Change—Priority Mail Contract 1 Negotiated Service Agreements

AGENCY: Postal Service™.

ACTION: Notice.

SUMMARY: Postal Service notice of filing a request with the Postal Regulatory Commission to add Priority Mail Contract 1 to the list of Negotiated Service Agreements in the Mail Classification Schedule's Competitive Products List pursuant to 39 U.S.C. 3642 and 3632(b)(3).

DATES: October 16, 2008.

FOR FURTHER INFORMATION CONTACT: Scott Reiter, 202-268-2999

SUPPLEMENTARY INFORMATION: The United States Postal Service® hereby gives notice that on September 23, 2008, it filed with the Postal Regulatory Commission a Request of the United States Postal Service to Add Priority Mail Contract to Competitive Product List and Notice of Establishment of Rates and Class Not Of General Applicability. Documents are available at http://www.prc.gov, Docket Nos. MC2008-8, CP2008-26.

Neva R. Watson,
Attorney, Legislative.

[FR Doc. E8-24536 Filed 10-15-08; 8:45 am]

BILLING CODE 7710-12-P